DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: May 16, 2013, 10:00 a.m.

PLACE: Room 2C, 888 First Street NE., Washington, DC 20426.

STATUS: Open.

MATTERS TO BE CONSIDERED: Agenda.

Note: Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

994th—Meeting

Regular Meeting

May 16, 2013 10 a.m.

Item No. | Docket No. | Company
ADMINISTRATIVE
A-1 | AD02-1-000 | Agency Business Matters.
A-2 | AD02-7-000 | Customer Matters, Reliability, Security and Market Operations.
A-3 | AD06-3-000 | Market Update.
A-4 | AD05-9-000 | Energy Market and Reliability Assessment.
ELECTRIC
E-1 | ER13-193-000 | ISO New England Inc.
| ER13-196-000
E-2 | ER13-64-000 | PacifiCorp.
| ER13-65-000 | Deseret Generation & Transmission Cooperative, Inc.
| ER13-67-000 | NorthWestern Corporation.
| ER13-68-000 | Portland General Electric Company.
| ER13-127-000 | Idaho Power Company.
E-3 | OMITTED |
E-4 | OA12-1-000 | SU FERC, L.L.C.
E-5 | RM12-22-000 | Reliability Standards for Geomagnetic Disturbances.
E-6 | ER11-4338-000 | New York Independent System Operator, Inc.
E-7 | EL12-35-000 | Midwest Independent Transmission System Operator, Inc.
|  | ALLETE, Inc.
|  | Ameren Illinois Company.
|  | Ameren Transmission Company of Illinois.
|  | American Transmission Company, LLC.
|  | Big Rivers Electric Corporation.
|  | Board of Water, Electric and Communications Trustees of the City of Muscatine, Iowa.
|  | Central Minnesota Municipal Power Agency.
|  | City of Columbia, Missouri, Water & Light Company.
|  | City Water, Light & Power (Springfield, Illinois).
|  | Duke Energy Indiana, Inc.
|  | Dairyland Power Cooperative.
|  | Great River Energy.
|  | Hoosier Energy Rural Electric Cooperative, Inc.
|  | Indiana Municipal Power Agency.
|  | Indianapolis Power & Light Company.
|  | International Transmission Company.
|  | ITC Midwest, LLC.
|  | Michigan Electric Transmission Company, LLC.
|  | Michigan Public Power Agency.
|  | Michigan South Central Power Agency.
|  | MidAmerican Energy Company.
|  | Missouri River Energy Services.
|  | Montana-Dakota Utilities Company.
|  | Montezuma Municipal Light & Power.
|  | Municipal Electric Utility of the City of Cedar Falls, Iowa.
|  | Muscatine Power and Water.
|  | Northern Indiana Public Service Company.
|  | Northern States Power Company, a Minnesota Corporation.
|  | Northern States Power Company, a Wisconsin Corporation.
|  | Northwestern Wisconsin Electric Company.
|  | Otter Tail Power Company.
|  | Southern Illinois Power Cooperative.
|  | Southern Indiana Gas & Electric Company.
|  | Southern Minnesota Municipal Power Agency.
|  | Tipton Municipal Utilities.
|  | Wabash Valley Power Association, Inc.
|  | Wolverine Power Marketing Cooperative, Inc.
E-8 | RM12-1-000 | Transmission Planning Reliability Standards.
| RM13-9-000
E-9 | RM13-6-000 | Electric Reliability Organization Interpretation of Specific Requirements of the Disturbance Control Performance Standard.
E-10 | ER13-1133-000 | Southern California Edison Company.
E-11 | ER13-1121-000 | Peetz Logan Interconnect, LLC.
E-12 | ER05-1065-013 | Entergy Services, Inc.
| OA07-32-012
| ER12-1071-000 | Entergy Arkansas, Inc.
E-13 | OMITTED |
E-14 | ES13-5-000 | ITC Arkansas LLC.
|  | ITC Louisiana LLC.
|  | ITC Mississippi LLC.
|  | ITC Texas LLC.
E-15 | ES11-40-002 | Entergy Arkansas, Inc.
|  | Entergy Gulf States Louisiana, L.L.C.
|  | Entergy Louisiana, L.L.C.
|  | Entergy Mississippi, Inc.
|  | Entergy New Orleans, Inc.
|  | Entergy Texas, Inc.
E-16 | ES13-6-000 | Transmission Company Arkansas, LLC.
|  | Transmission Company Louisiana I, LLC.
|  | Transmission Company Louisiana II, LLC.
|  | Transmission Company Mississippi, LLC.
|  | Transmission Company New Orleans, LLC.
|  | Transmission Company Texas, LLC.
|  | Entergy Services, Inc.
E-17 | OMITTED
E-18 | EL13-14-000 | Sierra Pacific Power Company.
|  | Nevada Power Company.
| EL13-42-000 | Cargill Power Markets, LLC v. NV Energy, Inc.
E-19 | ER13-830-002 | J.P. Morgan Ventures Energy Corporation.
| ER13-830-001
E-20 | ER10-2331-007 | J.P. Morgan Ventures Energy Corporation.
| ER10-2343-007 | J.P. Morgan Commodities Canada Corporation.
| ER10-2319-006 | BE Alabama LLC.
| ER10-2320-006 | BE Allegheny LLC.
| ER10-2317-005 | BE CA LLC.
| ER10-2322-007 | BE Ironwood LLC.
| ER10-2324-006 | BE KJ LLC.
| ER10-2325-005 | BE Louisiana LLC.
| ER10-2332-006 | BE Rayle LLC.
| ER10-2326-007 | Cedar Brakes I, L.L.C.
| ER10-2327-008 | Cedar Brakes II, L.L.C.
| ER10-2328-006 | Central Power & Lime LLC.
| ER11-4609-005 | Triton Power Michigan LLC.
| ER10-2330-007 | Utility Contract Funding, L.L.C.
E-21 | RM04-7-010 | Market-Based Rates for Wholesale Sales of Electric Energy, Capacity and Ancillary Services by Public Utilities.
E-22 | RM10-20-001 | Market-Based Rate Affiliate Restrictions.
E-23 | ER12-1265-002 | Midwest Independent Transmission System Operator, Inc.
| ER12-1265-003
| ER09-1049-006
E-24 | ER12-1266-003 | Midwest Independent Transmission System Operator, Inc.
E-25 | ER07-682-004 | Entergy Services, Inc.
E-26 | ER11-2161-002 | Entergy Services, Inc.
GAS
G-1 | RM12-15-000 | Filing, Indexing and Service Requirements for Oil Pipelines.
G-2 | RP13-464-000 | Tennessee Gas Pipeline Company, L.L.C.
G-3 | RP09-995-003 | Sea Robin Pipeline Company, LLC.
| RP09-995-004
| RP10-422-001
| RP10-422-003
| RP12-313-003
| RP12-469-001
G-4 | IS12-390-001 | SFPP, L.P.
G-5 | IS12-501-001 | SFPP, L.P.
G-6 | IS12-503-001 | NuStar Logistics, L.P.
HYDRO
H-1 | P-2149-154 | Public Utility District No. 1 of Douglas County, Washington.
H-2 | P-12595-003 | Greybull Valley Irrigation District.
| P-12604-003
CERTIFICATES
C-1 | CP12-30-001 | Transcontinental Pipe Line Company, LLC.
C-2 | CP12-72-001 | Dominion Transmission, Inc.

Issued: May 9, 2013.
Kimberly D. Bose,
Secretary.

A free Web cast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2013-11666 Filed 5-13-13; 4:15 pm]

BILLING CODE 6717-01-P